FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier—Ocean Transportation Intermediary Applicants:

Eastern Logistics LLC, 6 Elna Ct., Bayonne, NJ 07002. Officer: Sameh F. Kaldes, President (Qualifying Individual)

Sabrina Shipping, LLC, 51 Cragwood Road, South Plainfield, NJ 07080. Officer: Hans Madsen, President (Qualifying Individual)

Non-Vessel-Operating Common Carrier—Ocean Transportation Intermediary Applicants (Cont'd):

HP International LLC dba A&M International, 367 Brooks Street, Elgin, IL 60120. Officers: Marilou Pedress, President/COO (Qualifying Individual), Shifeng (Alex) Sun, Vice President (Operations)

Flash Forward Logistics Inc., 17 Sunset Avenue, Lynbrook, NY 11563. Officers: Lisa Chirichella, Treasurer (Qualifying Individual), Peter Chirichella, President

Norton Lilly Logistics, LLC, One St. Louis Centre, Suite 3002, Mobile, AL 36602. Officers: Horace W. Thurber, IV, President (Qualifying Individual), Kevin L. Filliater, Vice President

Non-Vessel-Operating Common Carrier and Ocean Freight Forwarder Ocean Transportation Intermediary Applicants:

A.N. Deringer, Inc., 64 North Main Street, St. Albans, VT 05478. Officers: Jacob E. Holzscheiter, President/CEO (Qualifying Individual), John K. Holzscheiter, Senior Vice President

Continental Shipping Group Inc., 670S 21st Street, Irvington, NJ 07111. Officers: Zdzislaw Lesniewski, President/Treasurer (Qualifying Individual), Katarzyna Strojwas, Vice President

Non-Vessel-Operating Common Carrier and Ocean Freight Forwarder Transportation Intermediary Applicants (Cont'd):

M S F W, Inc., 500 E. Carson Plaza Drive, Suite 214, Carson, CA 90746. Officers: Robert S. Choung, President/CEO (Qualifying Individual), Julia J. Choung, C.F.O.

SecureGlobal Logistics Inc., 1045 Greens Parkway, Houston, TX 77067. Officers: James P. Middleton, CEO/President (Qualifying Individual), Michael Middleton, Vice President

Contex Shipping (USA) Inc., Courtyard Office Park, 7055 Engle Road, Suite 402, Middleburg Heights, OH 44130. Officers: Edward L. Evans, Vice President (Qualifying Individual), Ralf Riemeier, President/Treasurer

Santiago Cargo Express, Corp., 9-16 37th Avenue, Long Island City, NY 11101. Officer: Lupe Fernandez, President (Qualifying Individual)

American One Freight Forwarders, Inc., 3515 NW. 114 Avenue, Doral, FL 33178. Officers: Luigi Boria, President (Qualifying Individual), Graciela F. de Boria, Treasurer/Secretary

Ocean Freight Forwarder—Ocean Transportation Intermediary Applicants:

John S. James Co., 6002 Commerce Blvd., Suite 115, Garden City, GA 31408. Officers: Pamela J. James, VP/Chief Operations Officer (Qualifying Individual), Thomas C. James, President/Chief Executive Officer

BKA Logistics LLC, 1629 K Street, NW., Suite 500, Washington, DC 20006. Officer: Mark Millard, President/Member (Qualifying Individual)

Latunde Ayopo Sapara dba L.A.S. Shipping, 550 Ginger Lane, Calumet City, IL 60409. Officer: Latunde A. Sapara, Sole Proprietor (Qualifying Individual)

ClearSky Logistics Management, LLC, 887 West Marietta Street NW., #M202, Atlanta, GA 30318. Officers: Maxine L. Little, Vice President, Operations (Qualifying Individual), Christopher S. Wilkins, CEO

Itochu Logistics (USA) Corp., 1830 W. 205th Street, Torrance, CA 90501. Officers: Shinichi Miwa, Vice President (Qualifying Individual), Masahide Oota, President/CEO/Director

Ocean Freight Forwarder—Ocean Transportation Intermediary Applicants (Cont'd):

V. Alexander & Co., Inc., 22 Century Blvd., #510, Nashville, TN 37214. Officer: Gary Brown, Senior Vice President/Director (Qualifying Individual), D.F. Brown, Jr., President/COB

Dated: February 19, 2010.
Karen V. Gregory,
Secretary.

[FR Doc. 2010-3764 Filed 2-24-10; 8:45 am]

BILLING CODE P